DEPARTMENT OF ENERGY

Western Area Power Administration

Call for 2025 Resource Pool Applications, Sierra Nevada Region

AGENCY: Western Area Power Administration, DOE.

ACTION: Notice of extension.

SUMMARY: The Western Area Power Administration (WAPA), a Federal power marketing administration of the Department of Energy (DOE), published the Call for 2025 Resource Pool Applications (Call for 2025 Applications), on March 8, 2018, in the Federal Register. In the Call for 2025 Applications, WAPA stated all applications were due by 4:00 p.m., PDT, on May 7, 2018. This notice reopens the period during which DOE will accept applications and deems any application submitted by 4 p.m., PDT, on August 13, 2018 to be timely submitted.

DATES: WAPA must receive applications by 4 p.m., PDT, on August 13, 2018. WAPA will accept applications sent through the U.S. Postal Service, if postmarked at least 3 days before August 13, 2018, and received no later than August 15, 2018. WAPA will not consider applications received after the prescribed date.

FOR FURTHER INFORMATION CONTACT: Ms. Sandee Peebles, Public Utilities Specialist, Sierra Nevada Customer Service Region, Western Area Power Administration, 114 Parkshore Drive, Folsom, CA 95630, (916) 353-4454, or by electronic mail at peebles@wapa.gov.

SUPPLEMENTARY INFORMATION:

Background

On March 8, 2018, WAPA published the Call for 2025 Applications in the Federal Register (83 FR 9851). In that notice, WAPA stated applications were due on May 7, 2018. WAPA received requests to extend the date for submitting applications. By this notice, WAPA reopens the period during which WAPA will accept applications and deems any application submitted by 4 p.m., PDT, on August 13, 2018 to be timely submitted.

This notice only reopens the period to submit applications. Applicants must follow the instructions, provide necessary information and comply with all other requirements identified in the Call for 2025 Applications.

WAPA will accept completed applications, which includes signatures, received by the date and time in the DATES section. If an entity already submitted a complete application it does not need to resubmit it.

Dated: July 2, 2018.
Mark A. Gabriel,
Administrator.

[FR Doc. 2018-14998 Filed 7-12-18; 8:45 am]

BILLING CODE 6450-01-P